DEPARTMENT OF COMMERCE

National Oceanic and Atmospheric Administration

Agency Information Collection Activities; Submission to the Office of Management and Budget (OMB) for Review and Approval; Comment Request; Processed Products Family of Forms

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 25, 2023.

ADDRESSES: Interested persons are invited to submit written comments to Adrienne Thomas, NOAA PRA Officer, at NOAA.PRA@noaa.gov. Please reference OMB Control Number 0648-0018 in the subject line of your comments. Do not submit Confidential Business Information or otherwise sensitive or protected information.

FOR FURTHER INFORMATION CONTACT: Requests for additional information or specific questions related to collection activities should be directed to Veronica Pereira, NOAA Fisheries Office of Science and Technology, 1315 East West Highway, Silver Spring, MD 20910, (301) 427-8117, Veronica.Pereira@noaa.gov.

SUPPLEMENTARY INFORMATION:

I. Abstract

This request is for revision and extension of a current information collection. The National Oceanic and Atmospheric Administration (NOAA) Fisheries Service annually collects information from seafood and industrial fishing processing plants on the volume and value of their processed fishery products and their monthly employment figures. NOAA also collects monthly production volume of fish meal, oil, and solubles. The information gathered is used by NOAA in the economic and social analyses developed when proposing and evaluating fishery management actions. The data are also used in annual reports such as Fisheries of the United States and is provided to other agencies, academia, and industry members as needed and allowed through the Magnuson Stevens Act.

This year, we are proposing to modify the survey to allow respondents to mark themselves as more than one type of operation (i.e., Processor, wholesaler, cold storage, and/or other) and we are asking them to specify the number of processing line workers they have, if they are a processor.

II. Method of Collection

Responses are submitted by mail, via postage-paid envelopes provided by NOAA Fisheries. If preferred by the processor, an electronically fillable pdf can also be provided and transmitted via encrypted messaging. Lastly, as an alternative option, interested processors can request an online account to our Fisheries One Stop Shop (FOSS) portal and enter and submit data electronically.

III. Data

OMB Control Number: 0648-0018.

Form Number(s): NOAA Forms 88-13, 88-13C.

Type of Review: Regular submission, revision of a current information collection.

Affected Public: Business or other for-profit organizations.

Estimated Number of Respondents: 620.

Estimated Time per Response: 30 minutes.

Estimated Total Annual Burden Hours: 310 hours.

Estimated Total Annual Cost to Public: $0.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-15851 Filed 7-25-23; 8:45 am]

BILLING CODE 3510-22-P